DEPARTMENT OF COMMERCE

International Trade Administration

Postponement of Preliminary Determinations of Antidumping Duty Investigations: Certain Frozen and Canned Warmwater Shrimp From Brazil (A-353-838), Ecuador (A-331-802), India (A-533-840), Thailand (A-549-822), the People's Republic of China (A-570-893), and the Socialist Republic of Vietnam (A-503-822).

AGENCY: Import Administration, International Trade Administration, Department of Commerce.

SUMMARY: The Department of Commerce is postponing the preliminary determinations in the antidumping duty investigations of certain frozen and canned warmwater shrimp from Brazil, Ecuador, India, Thailand, the People's Republic of China (PRC), and the Socialist Republic of Vietnam (Vietnam) until no later than July 2, 2004 (PRC and Vietnam) and July 28, 2004 (Brazil, Ecuador, India, and Thailand). These postponements are made pursuant to section 733(c)(1)(B) of the Tariff Act of 1930, as amended (“the Act”).

EFFECTIVE DATE: May 24, 2004.

FOR FURTHER INFORMATION CONTACT: David Goldberger (Brazil and Ecuador) (202) 482-4163, Irina Itkin (India and Thailand) (202) 482-0656, or Alex Villanueva (PRC and Vietnam) (202) 482-3208; Import Administration, International Trade Administration, U.S. Department of Commerce, 14th Street and Constitution Avenue, NW., Washington DC 20230.

SUPPLEMENTARY INFORMATION:

Postponement of Due Date for Preliminary Determinations

On January 20, 2004, the Department initiated antidumping duty investigations of imports of certain frozen and canned warmwater shrimp from Brazil, Ecuador, India, Thailand, the PRC, and Vietnam. See Notice of Initiation of Antidumping Duty Investigations: Certain Frozen and Canned Warmwater Shrimp from Brazil, Ecuador, India, Thailand, the People's Republic of China, and the Socialist Republic of Vietnam, 68 FR 3876 (January 27, 2004). The notice of initiation stated that we would issue our preliminary determinations no later than 140 days after the date of initiation. See Id. Currently, the preliminary determinations in these investigations are due on June 8, 2004.

Pursuant to section 733(c)(1)(B) of the Act, the Department may extend the period for reaching a preliminary determination until no later than the 190th day after the date on which the administrating authority initiates an investigation if:

(B) the administrating authority concludes that the parties concerned are cooperating and determines that:

(i) The case is extraordinarily complicated by reason of

(I) the number and complexity of the transactions to be investigated or adjustments to be considered,

(II) the novelty of the issues presented, or

(III) the number of firms whose activities must be investigated, and

(ii) additional time is necessary to make the preliminary determination.

We find that all concerned parties are cooperating in all cases, and we find that these cases are extraordinarily complicated because of the number of firms involved, and the complexity of the transactions and adjustments to be considered. Furthermore, for the market-economy investigations of Brazil, Ecuador, India, and Thailand, unlike the non-market economy cases of the PRC and Vietnam, the Department must make determinations regarding the appropriate comparison markets for normal value calculations, and the initiation of sales-below-cost investigations, which require additional time.

Pursuant to section 733(c)(1)(B) of the Act, we have determined that these cases are extraordinarily complicated and that additional time is necessary to make our preliminary determinations. Therefore, we are partially extending the preliminary determination date for the PRC and Vietnam until no later than July 2, 2004, and we are fully extending the preliminary determination date for Brazil, Ecuador, India, and Thailand until no later than July 28, 2004.

This notice is issued and published pursuant to section 733(c)(2) of the Act and 19 CFR 351.205(f).

Dated: May 18, 2004.
Jeffrey May,
Deputy Assistant Secretary for Import Administration.

[FR Doc. 04-11674 Filed 5-21-04; 8:45 am]

BILLING CODE 3510-DS-P